DEPARTMENT OF COMMERCE

National Institute of Standards and Technology

Open Meeting of the Information Security and Privacy Advisory Board

AGENCY: National Institute of Standards and Technology, Department of Commerce.

ACTION: Notice of open meeting.

SUMMARY: The Information Security and Privacy Advisory Board (ISPAB) will meet Wednesday, October 26, 2022, and Thursday, October 27, 2022, from 10 a.m. until 4 p.m., eastern time. All sessions will be open to the public.

DATES: The meeting will be held on Wednesday, October 26, 2022, and Thursday, October 27, 2022, from 10 a.m. until 4 p.m., eastern time.

ADDRESSES: The meeting will be a hybrid meeting, held in-person at American Institute of Architects, 1735 New York Ave. NW, Washington, DC 20006, and virtually via Blue Jeans webcast. Please note admittance instructions under the SUPPLEMENTARY INFORMATION section of this notice.

FOR FURTHER INFORMATION CONTACT: Jeff Brewer, Information Technology Laboratory, National Institute of Standards and Technology, Telephone: (301) 975-2489, Email address: jeffrey.brewer@nist.gov.

SUPPLEMENTARY INFORMATION: Pursuant to the Federal Advisory Committee Act, as amended, 5 U.S.C. app., notice is hereby given that the ISPAB will hold an open meeting Wednesday, October 26, 2022, and Thursday, October 27, 2022, from 10 a.m. until 4 p.m., eastern time. All sessions will be open to the public. The ISPAB is authorized by 15 U.S.C. 278g-4, as amended, and advises the National Institute of Standards and Technology (NIST), the Secretary of Homeland Security, and the Director of the Office of Management and Budget (OMB) on information security and privacy issues pertaining to Federal government information systems, including through review of proposed standards and guidelines developed by NIST. Details regarding the ISPAB's activities are available at https://csrc.nist.gov/projects/ispab.

The agenda is expected to include the following items:

—Board Introductions and Member Activities,

—Update from the NIST's Information Technology Laboratory (ITL) Director,

—Introduction to the Board of the newly confirmed NIST Director, Dr. Laurie Locascio,

—Briefing from the National Academies of Science on their report on cryptography “Fostering Responsible Computing Research”,

—Briefing from NIST on Identity Management Issues,

—Briefing from the Cybersecurity and Infrastructure Security Agency (CISA) on Critical Infrastructure Cybersecurity Performance Goals,

—Briefing and Board discussion on the National Cybersecurity Strategy,

—Update on NIST Cybersecurity and Privacy Activities,

—Public Comments,

—Board Discussion and Recommendations.

Note that agenda items may change without notice. The final agenda will be posted on the ISPAB event page at: https://csrc.nist.gov/Events/2022/ispab-october-2022-meeting.

Public Participation: Written questions or comments from the public are invited and may be submitted electronically by email to Jeff Brewer at the contact information indicated in the FOR FURTHER INFORMATION CONTACT section of this notice by 5 p.m. on Tuesday, October 25, 2022.

The ISPAB agenda will include a period, not to exceed thirty minutes, for submitted questions or comments from the public between 3 p.m. and 3:30 p.m. on Wednesday, October 26, 2022. Submitted questions or comments from the public will be selected on a first-come, first-served basis and limited to five minutes per person.

Members of the public who wish to expand upon their submitted statements, those who had wished to submit a question or comment but could not be accommodated on the agenda, and those who were unable to attend the meeting via webinar are invited to submit written statements. In addition, written statements are invited and may be submitted to the ISPAB at any time. All written statements should be directed to the ISPAB Secretariat, Information Technology Laboratory by email to: Jeffrey.Brewer@nist.gov.

Admittance Instructions: Participants planning to attend in-person do not need to register. Participants planning to attend via webinar, must register via the instructions found on ISPAB's event page at: https://csrc.nist.gov/Events/2022/ispab-october-2022-meeting by 5 p.m. eastern time, Tuesday, October 25, 2022.

Alicia Chambers,
NIST Executive Secretariat.

[FR Doc. 2022-19699 Filed 9-12-22; 8:45 am]

BILLING CODE 3510-13-P